CONSUMER PRODUCT SAFETY COMMISSION

All Terrain Vehicle Chinese Language Webinar; Meeting

AGENCY: Consumer Product Safety Commission.

ACTION: Notice.

The Consumer Product Safety Commission (CPSC) is announcing the following meeting: All Terrain Vehicle Chinese Language Webinar. The webinar will focus on CPSC's requirements for ATV's, including CPSC's Action Plan and mandatory vehicle requirements.

Date and Time: The meeting will be held on February 4, 2010 at 6:00 am Eastern Standard Time.

Location: The meeting will be held live via webinar. Chinese language speakers can access the webinar at http://www.cpsc.gov/webcast/index_ch.html. English speakers can access the webinar at http://www.cpsc.gov/webcast/index.html.

Contact: Laurie Hopkins, International Programs Coordinator, Office of International Programs and Intergovernmental Affairs, Consumer Product Safety Commission, 4330 East West Highway, Suite 505-A, 301-504-7797, FAX: 301-504-0137 e-mail: lhopkins@cpsc.gov.

Dated January 26, 2010.
Todd A. Stevenson,
Secretary of the Commission.

[FR Doc. 2010-2072 Filed 2-3-10; 8:45 am]

BILLING CODE 6355-01-M